DEPARTMENT OF THE INTERIOR

Fish and Wildlife Service

[FWS-R6-ES-2011-N112; 60120-1113-0000-D2]

Endangered and Threatened Wildlife and Plants; Permits

AGENCY: Fish and Wildlife Service, Interior.

ACTION: Notice of receipt of applications for permits.

SUMMARY: We announce our receipt of applications to conduct certain activities pertaining to enhancement of survival of endangered species. The Endangered Species Act requires that we invite public comment on these permit applications.

DATES: Written comments on this request for a permit must be received by July 8, 2011.

ADDRESSES: Submit written data or comments to the Assistant Regional Director-Ecological Services, U.S. Fish and Wildlife Service, P.O. Box 25486, Denver Federal Center, Denver, CO 80225-0486; facsimile 303-236-0027.

SUPPLEMENTARY INFORMATION:

Public Availability of Comments

Before including your address, phone number, e-mail address, or other personal indentifying information in your comment, you should be aware that your entire comment—including your personal identifying information—may be made publicly available at any time. While you can ask us in your comment to withhold your personal identifying information from public review, we cannot guarantee that we will be able to do so.

Document Availability

Documents and other information submitted with these applications are available for review, subject to the requirements of the Privacy Act (5 U.S.C. 552a) and Freedom of Information Act (5 U.S.C. 552), by any party who submits a request for a copy of such documents within 30 days of the date of publication of this notice to Kris Olsen, by mail (see ADDRESSES) or by telephone at 303-236-4256. All comments we receive from individuals become part of the official public record.

Applications

The following applicants have requested issuance of enhancement of survival permits to conduct certain activities with endangered species pursuant to Section 10(a)(1)(A) of the Endangered Species Act of 1973, as amended (16 U.S.C. 1531 et seq.).

Applicant: Leigh Espy, Bureau of Land Management, Lakewood, Colorado, TE-43044A.

The applicant requests a permit to remove and reduce to possession Penstemon penlandii (Penland beardtongue), Astragalus osterhoutii (Osterhout milk-vetch), Phacelia formosula (North Park phacelia), and Eriogonum pelinophilum (Clay-loving wild-buckwheat) in conjunction with recovery activities throughout the species' ranges for the purpose of enhancing their survival and recovery.

Applicant: Kirk Mammoliti, Roeland Park, Kansas, TE-43046A. The applicant requests a permit to take Topeka shiner (Notropis topeka) in conjunction with recovery activities throughout the species' range for the purpose of enhancing its survival and recovery.

Dated: May 24, 2011.
Noreen E. Walsh,
Deputy Regional Director, Denver, Colorado.

[FR Doc. 2011-14221 Filed 6-7-11; 8:45 am]

BILLING CODE 4310-55-P